DEPARTMENT OF LABOR

Employment and Training Administration

Notice of Availability of Funds and Solicitation for Grant Applications for the Workforce Data Quality Initiative

AGENCY: Employment and Training Administration, Labor.

ACTION: Notice of Solicitation for Grant Applications (SGA).

Funding Opportunity Number: SGA/DFA PY-12-07.

SUMMARY: The Employment and Training Administration (ETA), U.S. Department of Labor, announces the availability of approximately $6 million for grants to State Workforce Agencies (SWA) to develop the Workforce Data Quality Initiative (WDQI).

Grants awarded will provide SWAs the opportunity to develop or expand State workforce longitudinal administrative data systems. These State longitudinal data systems will, at a minimum, include information on programs that provide training, employment services, and unemployment insurance; connect with education data contained in Statewide Longitudinal Data Systems (SLDS) databases; be linked longitudinally at the individual level to allow for enhanced opportunity for evaluation of federally and State-supported education programs; and lead to better information for customers and stakeholders of the workforce system. Where such longitudinal systems do not exist or are in early development, WDQI grant assistance may be used to design and develop these systems. WDQI grant assistance can also be used to improve upon existing State longitudinal systems. Current round one WDQI grant recipients who were awarded under solicitation SGA/DFA PY 09-10 and states that currently do not have a WDQI grant are eligible for this competition.

The complete SGA and any subsequent SGA amendments in connection with this solicitation are described in further detail on ETA's Web site at http://www.doleta.gov/grants/ or on http://www.grants.gov. The Web sites provide application information, eligibility requirements, review and selection procedures, and other program requirements governing this solicitation.

DATES: The closing date for receipt of applications under this announcement is April 25, 2013. Applications must be received no later than 4:00:00 p.m. Eastern Time.

FOR FURTHER INFORMATION CONTACT: Ariam Ferro, 200 Constitution Avenue NW., Room N-4716, Washington, DC 20210; Telephone: 202-693-3968.

Signed March 5, 2013 in Washington, DC
Eric D. Luetkenhaus,
Grant Officer, Employment and Training Administration.

[FR Doc. 2013-05745 Filed 3-12-13; 8:45 am]

BILLING CODE 4510-FN-P